DEPARTMENT OF COMMERCE

International Trade Administration

[A-570-890]

Wooden Bedroom Furniture From the People's Republic of China: Notice of Court Decision Not in Harmony With Final Results of Administrative Review and Notice of Amended Final Results of Administrative Review Pursuant to Court Decision

AGENCY: Enforcement and Compliance, formerly Import Administration, International Trade Administration, Department of Commerce.

SUMMARY: On November 14, 2013, the United States Court of International Trade (“CIT”) issued its final judgment in Home Meridian Int'l, Inc. v. United States Consol. Court No. 11-00325 ¹ and sustained the Department of Commerce's (“the Department”) final results of second remand determination.² Consistent with the decision of the United States Court of Appeals for the Federal Circuit (“CAFC”) in Timken Co. v. United States, 893 F.2d 337 (Fed. Cir. 1990) (“Timken”), as clarified by Diamond Sawblades Mfrs. Coalition v. United States, 626 F.3d 1374 (Fed. Cir. 2010) (“Diamond Sawblades”), the Department is notifying the public that the final judgment in this case is not in harmony with the Department's Final Results ³ and is amending its Final Results with regard to the calculation of the weighted average margin applied to the mandatory respondent, Dalian Huafeng Furniture Group Co., Ltd. (“Huafeng”), and the two separate rate respondents included in this decision: Nanhai Baiyi Woodwork Co. Ltd. (“Nanhai”) and Dongguan Liaobushangdun Huada Furniture Factory and Great Rich (HK) Enterprise Co., Ltd. (“Dongguan”).

¹ See Home Meridian Int'l, Inc. v. United States Consol. Court No. 11-00325, Slip Op. 13-140 (November 14, 2013) (“Home Meridian II”).

² See Second Redetermination Pursuant to Court Order, Court No. 11-00325, dated August 26, 2013 (“Remand Results II”).

³ See Wooden Bedroom Furniture From the People's Republic of China: Final Results and Final Rescission in Part, 76 FR 49729 (August 11, 2011) (“Final Results”).

DATES: Effective Date: November 25, 2013.

FOR FURTHER INFORMATION CONTACT: Jeff Pedersen, AD/CVD Operations, Office IV, Enforcement and Compliance—International Trade Administration, U.S. Department of Commerce, 14th Street and Constitution Avenue NW., Washington, DC 20230; telephone (202) 482-2769.

SUPPLEMENTARY INFORMATION:

Background

On August 26, 2013, the Department filed Remand Redetermination II, in which the Department valued certain wood inputs by the respondent, Dalian Huafeng Furniture Group Co., Ltd. (“Huafeng”), using its market purchases. In addition, the Department revised the surrogate financial ratios by excluding in the calculation of ratios the financial statements of one company relied on in the Final Results. Remand Redetermination II also included adjustments made in Remand Redetermination I regarding the surrogate value for the input poly foam,⁴ which the Court sustained in Home Meridian I.⁵ On November 14, 2013, the Court sustained the Department's Remand Redetermination II.⁶

⁴ See Remand Results II and Final Results of Redetermination Pursuant to Court Order (February 25, 2013), Docket No. 97 (“Remand Results I”).

⁵ See Home Meridian Int'l, Inc. v. United States, Consol. Court No. 11-00325, Slip Op. 2013-81 (June 25, 2013) (“Home Meridian I”).

⁶ See Home Meridian II.

Timken Notice

In its decision in Timken, 893 F.2d at 341, as clarified by Diamond Sawblades, the CAFC has held that, pursuant to section 516A(e) of the Tariff Act of 1930, as amended (“the Act”), the Department must publish a notice of a court decision that is not “in harmony” with a Department determination and must suspend liquidation of entries pending a “conclusive” court decision. The CIT's November 14, 2013, judgment sustaining the Department's remand redetermination valuation of certain wood inputs, poly foam, and the calculation of the surrogate financial ratios, constitutes a final decision of that court that is not in harmony with the Department's Final Results. This notice is published in fulfillment of the publication requirements of Timken. Accordingly, the Department will continue the suspension of liquidation of the subject merchandise pending the expiration of the period of appeal, or if appealed, pending a final and conclusive court decision.

Amended Final Results

Because there is now a final court decision with respect to this case, the Department is amending its Final Results with respect to Huafeng's weighted-average dumping margin for the period January 1, 2009 through December 31, 2009. In addition, the Department has amended the Final Results for Nanhai and Baiyi, the separate rate respondents included in this final court decision. The remaining weighted-average dumping margins from the Final Results, as subsequently amended, remain unchanged.

Manufacturer/exporter | Weighted- average dumping margin (percent)
Dalian Huafeng Furniture Group Co., Ltd | 11.79
Nanhai Baiyi Woodwork Co. Ltd | 11.79
Dongguan Liaobushangdun Huada Furniture Factory, Great Rich (HK) Enterprise Co., Ltd | 11.79

In the event the CIT's ruling is not appealed or, if appealed, upheld by the CAFC, the Department will instruct CBP to liquidate entries of subject merchandise in accordance with

This notice is issued and published in accordance with sections 516A(e)(1), 751(a)(1), and 777(i)(1) of the Act.

Dated: November 26, 2013.
Paul Piquado,
Assistant Secretary for Enforcement and Compliance.

[FR Doc. 2013-29029 Filed 12-3-13; 8:45 am]

BILLING CODE 3510-DS-P